DEPARTMENT OF TRANSPORTATION

Federal Aviation Administration

[Docket No. 2022-1202]

Agency Information Collection Activities: Requests for Comments; Clearance of a Renewed Approval of Information Collection: Reduction of Fuel Tank Flammability on Transport Category Airplanes

AGENCY: Federal Aviation Administration (FAA), DOT.

ACTION: Notice and request for comments.

SUMMARY: In accordance with the Paperwork Reduction Act of 1995, FAA invites public comments about our intention to request the Office of Management and Budget (OMB) approval to renew a previously approved information collection. The FAA's Fuel Tank Flammability Safety rule requires manufacturers to report to the FAA every 6 months on the reliability of the fuel tank flammability reduction systems of their fleet. The data is needed to assure system performance meets that predicted at the time of certification. This collection of information supports the Department of Transportation's strategic goal of safety.

DATES: Written comments should be submitted by November 28, 2022.

ADDRESSES: Please send written comments:

By Electronic Docket: https://www.regulations.gov (Enter docket number into search field).

By mail: Monica Caldwell, FAA National Headquarters, 800 Independence Ave. SW, Washington, DC 20591-0001.

By fax: 405-225-2350.

FOR FURTHER INFORMATION CONTACT: Philip Dang by email at: Philip.M.Dang@faa.gov; phone: 206-231-3442.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0710.

Title: Reduction of Fuel Tank Flammability on Transport Category Airplanes.

Form Numbers: There are no FAA forms associated with this collection.

Type of Review: Renewal of an information collection.

Background: The Federal Register Notice with a 60-day comment period soliciting comments on the following collection of information was published on September 19, 2019 (84 FR 49174). There were no comments. Design approval holders use flammability analysis documentation to demonstrate to their FAA Oversight Office that they are compliant with the Fuel Tank Flammability Safety rule (73 FR 42443). Semi-annual reports submitted by design approval holders provide listings of component failures discovered during scheduled or unscheduled maintenance so that the reliability of the flammability reduction means can be verified by the FAA.

Respondents: Approximately nine design approval holders.

Frequency: Every three years.

Estimated Average Burden per Response: Minutes/Hours 100 hours.

Estimated Total Annual Burden: 1,800 hours.

Issued in Kansas City, Missouri on September 26, 2022.
Patrick R. Mullen,
Technical Innovation Policy Branch Manager, Policy and Innovation, Aircraft Certification Service.

[FR Doc. 2022-21166 Filed 9-28-22; 8:45 am]

BILLING CODE 4910-13-P